FEDERAL MINE SAFETY AND HEALTH REVIEW COMMISSION

Sunshine Act Meeting

March 1, 2004.

Time and Date: 10 a.m., Thursday, March 11, 2004.

Place: Hearing Room, 9th Floor, 601 New Jersey Avenue, NW., Washington, DC.

Status: Open.

Matters to be Considered: The Commission will consider and act upon the following in open session:

Secretary of Labor v. Rag Cumberland Resources LP, Docket Nos. PENN 2000-181-R et al. (Issues include whether the judge correctly determined that the operator violated 30 CFR §§ 75.334(b) and 75.363(a).)

The Commission heard oral argument in this matter on February 26, 2004.

Any person attending this oral argument who requires special accessibility features and/or auxiliary aids, such as sign language interpreters, must inform the Commission in advance of those needs. Subject to 29 CFR § 2706.150(a)(3) and § 2706.160(d).

FOR FURTHER INFORMATION CONTACT: Jean Ellen, (202) 434-9950/(202) 708-9300 for TDD Relay / 1-800-877-8339 for toll free.

Jean H. Ellen,
Chief Docket Clerk.

[FR Doc. 04-5584 Filed 3-8-04; 4:15 pm]

BILLING CODE 6735-01-M